DEPARTMENT OF COMMERCE

International Trade Administration

[A-552-801]

Certain Frozen Fish Fillets from the Socialist Republic of Vietnam: Initiation of Antidumping Duty New Shipper Reviews

AGENCY: Import Administration, International Trade Administration, Department of Commerce.

EFFECTIVE DATE: October 9, 2007.

SUMMARY: The Department of Commerce (“Department”) has determined that two requests for a new shipper review of the antidumping duty order on certain frozen fish fillets from the Socialist Republic of Vietnam (“Vietnam”), received on June 15, 2007, and August 29, 2007, meet the statutory and regulatory requirements for initiation. The period of review (“POR”) for the two new shipper reviews which the Department is initiating is August 1, 2006, through July 31, 2007.

FOR FURTHER INFORMATION CONTACT: Javier Barrientos, AD/CVD Operations, Office 9, Import Administration, International Trade Administration, U.S. Department of Commerce, 14th Street and Constitution Avenue, N.W., Washington, D.C. 20230; telephone: (202) 482-2243.

SUPPLEMENTARY INFORMATION:

Background

The notice announcing the antidumping duty order on certain frozen fish fillets from Vietnam was published in the Federal Register on August 12, 2003. See Notice of Antidumping Duty Order: Certain Frozen Fish Fillets from the Socialist Republic of Vietnam, 68 FR 47909(August 12, 2003).¹ On June 15, and August 29, 2007, pursuant to 19 CFR 351.214(c), the Department received two new shipper review requests from Southern Fishery Industries Company, Ltd. (“South Vina”) and Binh An Seafood Joint Stock Co. (“Binh An”), respectively. South Vina and Binh An certified that they are both the producer and exporter of the subject merchandise upon which the request for a new shipper review is based. The Catfish Farmers of America and individual U.S. catfish processors (“Petitioners”) did not submit comments with regard to these two new shipper requests.

¹ Therefore, a request for a new shipper review based on the anniversary month, was due to the Department by the final day of August 2007. See 19 CFR 351.214(d)(1).

Pursuant to section 751(a)(2)(B)(i)(I) of the Tariff Act of 1930 as amended (“the Act”), and 19 CFR 351.214(b)(2)(i), South Vina and Binh An certified that they did not export certain frozen fish fillets to the United States during the period of investigation (“POI”). In addition, pursuant to section 751(a)(2)(B)(i)(II) of the Act and 19 CFR 351.214(b)(2)(iii)(A), South Vina and Binh An certified that, since the initiation of the investigation, they have never been affiliated with any Vietnamese exporter or producer who exported certain frozen fish fillets to the United States during the POI, including those not individually examined during the investigation. As required by 19 CFR 351.214(b)(2)(iii)(B), South Vina and Binh An also certified that their export activities were not controlled by the central government of Vietnam.

In addition to the certifications described above, pursuant to 19 CFR 351.214(b)(2)(iv), South Vina and Binh An submitted documentation establishing the following: (1) the date on which South Vina and Binh An first shipped certain frozen fish fillets for export to the United States and the date on which the frozen fish fillets were first entered, or withdrawn from warehouse, for consumption; (2) the volume of their first shipment;² and (3) the date of their first sale to an unaffiliated customer in the United States.

² South Vina made one subsequent shipment to the United States, while Binh An made two subsequent shipment during the POR, which the Department corroborated using data from U.S. Customs and Border Protection (“CBP”).

The Department conducted CBP database queries to confirm that South Vina and Binh An's shipments of subject merchandise had entered the United States for consumption and that liquidation of such entries had been properly suspended for antidumping duties.

Initiation of New Shipper Reviews

Pursuant to section 751(a)(2)(B) of the Act and 19 CFR 351.214(d)(1), the Department finds that South Vina and Binh An's requests meet the threshold requirements for initiation of a new shipper review for the shipment of certain frozen fish fillets from Vietnam they produced and exported.

The POR for the two new shipper reviews is August 1, 2006, through July 31, 2007. See 19 CFR 351.214(g)(1)(ii)(A). The Department intends to issue the preliminary results of these reviews no later than 180 days from the date of initiation, and final results of these reviews no later than 270 days from the date of initiation. See section 751(a)(2)(B)(iv) of the Act.

On August 17, 2006, the Pension Protection Act of 2006 (H.R. 4) was signed into law. Section 1632 of H.R. 4 temporarily suspends the authority of the Department to instruct CBP to collect a bond or other security in lieu of a cash deposit in new shipper reviews. Therefore, the posting of a bond under section 751(a)(2)(B)(iii) of the Act and 19 CFR 351.214(e) in lieu of a cash deposit is not available in this case. Importers of subject merchandise manufactured and exported by South Vina and/or Binh An must continue to pay a cash deposit of estimated antidumping duties on each entry of subject merchandise at the current Vietnam-wide rate of 63.88 percent.

Interested parties requiring access to proprietary information in this new shipper review should submit applications for disclosure under administrative protective order in accordance with 19 CFR 351.305 and 351.306. This initiation and notice are published in accordance with section 751(a)(2)(B) of the Act and 19 CFR 351.214 and 351.221(c)(1)(i).

Dated: September 26, 2007.
Stephen J. Claeys,
Deputy Assistant Secretary for Import Administration.

[FR Doc. E7-19826 Filed 10-5-07; 8:45 am]

BILLING CODE 3510-DS-S